DEPARTMENT OF COMMERCE

National Oceanic and Atmospheric Administration

[RTID 0648-XC591]

Determination of an Overfished Condition

AGENCY: National Marine Fisheries Service (NMFS), National Oceanic and Atmospheric Administration (NOAA), Commerce.

ACTION: Notice.

SUMMARY: This action serves as a notice that NMFS, on behalf of the Secretary of Commerce (Secretary), has found that Klamath River fall-run Chinook salmon, Queets coho salmon, and Strait of Juan de Fuca coho salmon are still overfished. NMFS, on behalf of the Secretary, notifies the appropriate regional fishery management council whenever it determines that a stock or stock complex is subject to overfishing, overfished, or approaching an overfished condition.

FOR FURTHER INFORMATION CONTACT: Regina Spallone, (301)-427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish a notice in the Federal Register, whenever it determines that a stock or stock complex is subject to overfishing, overfished, or approaching an overfished condition.

NMFS has determined that Klamath River fall-run Chinook salmon, Queets coho salmon, and Strait of Juan de Fuca coho salmon are still overfished. These determinations are based on the most recent assessments, completed in 2022 and using data from 2019-2021 for Klamath River fall-run Chinook salmon, and data from 2018-2020 for Queets and Juan de Fuca coho salmon. The determination of overfished for these stocks is based on the 3-year geometric mean of the annual spawning escapement for each stock falling below its respective overfished threshold.

Of these three salmon stocks, only the Klamath River fall-run Chinook stock is domestically managed. The Pacific Fishery Management Council (Council) has limited ability to control fisheries for the two internationally-managed coho stocks in waters outside its jurisdiction. NMFS continues to work with the Council to rebuild these three stocks.

Dated: December 7, 2022.
Jennifer M. Wallace,
Acting Director, Office of Sustainable Fisheries, National Marine Fisheries Service.

[FR Doc. 2022-26909 Filed 12-9-22; 8:45 am]

BILLING CODE 3510-22-P